FEDERAL COMMUNICATIONS COMMISSION

[FR ID 221262]

Open Commission Meeting Thursday, May 23, 2024

The Federal Communications Commission will hold an Open Meeting on the subjects listed below on Thursday, May 23, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | OFFICE OF ENGINEERING & TECHNOLOGY | Title: Promoting the Integrity and Security of Telecommunications Certification Bodies, Measurement Facilities, and the Equipment Authorization Program (ET Docket No. 24-136).
|  | Summary: The Commission will consider a Notice of Proposed Rulemaking to strengthen requirements and oversight relating to telecommunications certification bodies and measurement facilities to help ensure the integrity of these entities for purposes of our equipment authorization program, to better protect national security, and to advance the Commission's comprehensive strategy to build a more secure and resilient communications supply chain.
2 | MEDIA | Title: Restricted Adjudicatory Matter.
|  | Summary: The Commission will consider a restricted adjudicatory matter from the Media Bureau.
3 | ENFORCEMENT | Title: Enforcement Bureau Action.
|  | Summary: The Commission will consider an enforcement action.
4 | ENFORCEMENT | Title: Enforcement Bureau Action.
|  | Summary: The Commission will consider an enforcement action.
5 | ENFORCEMENT | Title: Enforcement Bureau Action.
| Summary: The Commission will consider an enforcement action.
6 | ENFORCEMENT | Title: Enforcement Bureau Action. Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Dated: May 16, 2024.
Marlene Dortch,
Secretary.

[FR Doc. 2024-11230 Filed 5-21-24; 8:45 am]

BILLING CODE 6712-01-P